DEPARTMENT OF COMMERCE

International Trade Administration

National Travel and Tourism Strategy

AGENCY: International Trade Administration, U.S. Department of Commerce.

ACTION: Notice; request for comments.

SUMMARY: On behalf of the Tourism Policy Council (TPC), the International Trade Administration (ITA) is seeking public input on the development of a new national strategy, entitled “the National Travel and Tourism Strategy” (Strategy), to be produced by the TPC through ITA's National Travel and Tourism Office, which serves as the TPC Secretariat. The TPC will consider the comments received in the development of the Strategy.

DATES: Comments must be received on or before Friday, February 11, 2022.

ADDRESSES: Electronic comments are preferred and may be sent to NTTOStrategy@trade.gov. Written comments may be sent to: National Travel and Tourism Office, 1401 Constitution Avenue NW, Suite 10007, International Trade Administration, Washington, DC, 20230.

FOR FURTHER INFORMATION CONTACT: Jennifer Aguinaga, National Travel and Tourism Office, 1401 Constitution Avenue NW, Suite 10007, International Trade Administration, Washington, DC 20230, NTTOStrategy@trade.gov, (202) 482-0140.

SUPPLEMENTARY INFORMATION: The goal of the new Strategy is to improve the competitive position of the United States in attracting international visitors and to increase travel and tourism to promote economic growth and job creation across the United States over the next five years.

The first National Travel and Tourism Strategy was developed in 2012 and updated in 2019. Those documents can be found here: https://www.trade.gov/tourism-policy-council. A new Strategy will provide a whole-of-government approach to accelerating full recovery and employment in the travel and tourism sector; restoring U.S. competitiveness in the sector by encouraging more travelers to come to the United States; spreading the economic benefits of travel and tourism across the United States, especially to underserved communities and populations; and preparing the sector for the effects of climate change.

ITA seeks input into the development of the Strategy, including on key stakeholder priorities. The TPC will consider the comments submitted in response to this request, as well as other inputs, in its development of the Strategy. Comments should be limited to no more than five (5) pages total and should address one or more of the following topics:

1. What can the Federal Government do to improve the competitive position of the United States and promote growth in international travel and tourism?

2. How can the Federal Government partner with non-federal entities, including the private sector and state, local, and tribal governments, to improve the competitive position of the United States and promote growth in international travel and tourism? What entities would be the most appropriate to partner with?

3. What metric(s) should be used to measure progress in meeting these goals?

Comments should include a reference to this Federal Register notice.

Jennifer Aguinaga,
Deputy Director for Policy & Planning, National Travel and Tourism Office, U.S. Department of Commerce.

[FR Doc. 2022-01795 Filed 1-28-22; 8:45 am]

BILLING CODE 3510-DR-P